DEPARTMENT OF AGRICULTURE

Natural Resources Conservation Service

Notice of Request for Nominations for the Task Force on Agricultural Air Quality

SUMMARY: The Secretary of Agriculture intends to renew the Task Force on Agricultural Air Quality and requests nominations for qualified persons to serve as members.

DATES: Nominations must be received in writing or reaffirmed (see SUPPLEMENTARY INFORMATION section) by September 29, 2000.

ADDRESSES: Send written nominations to: Chief, USDA/Natural Resources Conservation Service, P.O. Box 2890, Washington, DC 20013.

FOR FURTHER INFORMATION CONTACT: George Bluhm, Designated Federal Official, telephone (530) 752-1018, fax (530) 752-1552, e-mail bluhm@crocker.ucdavis.edu.

SUPPLEMENTARY INFORMATION:

Task Force Purpose

As required by section 391 of the Federal Agriculture Improvement and Reform Act of 1996, the Chief of the Natural Resources Conservation Service (NRCS) shall establish a task force to review research results by any Federal agency that addresses air quality issues related to agriculture or agriculture infrastructure. The task force will provide recommendations to the Secretary of Agriculture for guidance on development and implementation of air quality policy. The requirements of the Federal Advisory Committee Act (FACA) apply to this task force.

The task force will:

1. Review research, on agricultural air quality, supported by Federal agencies;

2. Provide recommendations to the Secretary of Agriculture, regarding air quality and its relation to agriculture, based upon sound scientific findings;

3. Work to ensure intergovernmental (Federal, state and local) coordination in establishing policy for agriculture air quality and to avoid duplication of efforts;

4. Assist, to the extent practical, Federal agencies in correcting their erroneous data with respect to agricultural air quality; and

5. Ensure that air quality research related to agriculture receives adequate peer review and considers economic feasibility.

Task Force Membership

The task force will be made up of United States citizens and be composed of:

1. Individuals with expertise in agricultural air quality and/or agricultural production;

2. Representatives of institutions with expertise in the impacts of air quality on human health;

3. Representatives from agriculture interest groups having expertise in production agriculture;

4. Representatives from state or local agencies having expertise in agriculture and air quality; and

5. An atmospheric scientist.

Task force nominations must be in writing and provide the appropriate background documents required by the Department of Agriculture (USDA) policy, including Form AD-755. Previous nominees and current task force members who wish to be reappointed should update their nominations and provide a new background disclosure form (AD-755) to reaffirm their candidacy. Service as a task force member shall not constitute employment by, or the holding of an office of, the United States for the purpose of any Federal law.

A task force member shall serve for a term of 2 years. No individual may serve more than three 2-year terms as a member of the task force. Task force members shall receive no compensation from the NRCS for their service as task force members except as described below.

While away from home or regular place of business as a member of the task force, the member will be eligible for travel expenses paid by NRCS, including per diem in lieu of subsistence, at the same rate as a person employed intermittently in the government service under section 5703 of Title 5, United States Code.

Additional information about the Task Force on Agricultural Air Quality may be found on the World Wide Web at http://www.nhq.nrcs.usda.gov/faca/aaqtf.html.

Submitting Nominations

Nominations should be typed and should include the following:

1. A brief summary of no more than two pages explaining the nominee's qualifications to serve on the Task Force on Agricultural Air Quality.

2. Résume.

3. A completed copy of form AD-755.

Nominations should be sent to the Chief of NRCS at the address listed above, and postmarked no later than September 29, 2000.

Equal Opportunity Statement

To ensure that recommendations of the task force take into account the needs of under served and diverse communities served by USDA, membership shall include, to the extent practicable, individuals representing minorities, women, and person with disabilities.

Signed in Washington, DC on August 1, 2000.
Danny D. Sells,
Associate Chief, Natural Resources Conservation Service.

[FR Doc. 00-20159 Filed 8-8-00; 8:45 am]

BILLING CODE 3410-16-U